DEPARTMENT OF AGRICULTURE

Rural Housing Service

7 CFR Part 1944

Housing Application Packaging Grants

AGENCY: Rural Housing Service, USDA.

ACTION: Final rule.

SUMMARY: The Agency is revising its internal Housing Application Packaging Grants regulation in order to correct an erroneous reference to the debarment and suspension regulation. This action is necessary since the existing regulation does not accurately reflect the current information. The intended effect is to remove the incorrect reference to the regulation.

DATES: Effective Date: This rule is effective February 15, 2005.

FOR FURTHER INFORMATION CONTACT: Thomas P. Dickson, Program Analyst, Program Support Staff, Rural Development, Room 6900 South Building, Stop 0761, 1400 Independence Ave., SW., Washington, DC 20250-1570. Telephone: (202) 690-4492, FAX: (202) 690-4335, e-mail: thomas.dickson@usda.gov.

SUPPLEMENTARY INFORMATION:

Classification

This action is not subject to the provisions of Executive Order 12866 since it involves only internal Agency management. This action is not published for prior notice and comment under the Administrative Procedure Act since it involves only internal Agency management and publication for comment is unnecessary and contrary to the public interest.

Program Affected

The program affected is listed in catalog of Federal Domestic Assistance under 10.442—Housing Application Packaging Grants.

Intergovernmental Consultation

Programs with Catalog of Federal Domestic Assistance the number 10.442 are not subject to the provisions of Executive Order 12372.

Civil Justice Reform

This final rule has been reviewed under Executive Order 12988, Civil Justice Reform. In accordance with this rule: (1) Unless otherwise specifically provided, all State and local laws and regulations that are in conflict with this rule will be preempted; (2) no retroactive effect will be given to this rule except as specifically prescribed in the rule; and (3) administrative Division (7 CFR part 11) must be exhausted before litigation against the Department is instituted.

Paperwork Reduction Act

The information collection requirements contained in this rule have been approved by the Office of Management and Budget (OMB) under the provisions of 44 U.S.C. chapter 35 and were assigned OMB control number 0575-0157 in accordance with the Paperwork Reduction Act of 1995. No person is required to respond to a collection of information unless it displays a valid OMB control number. This rule does not impose any new information collection requirements from those approved by OMB.

Regulatory Flexibility Act

The Administrator of the Rural Housing Service has determined that this rule will not have a significant economic impact on a substantial number of small entities as defined in the Regulatory Flexibility Act (5 U.S.C. 601 et seq.). New provisions included in this rule will not impact a substantial number of small entities to a greater extent than large entities. Therefore, a regulatory flexibility analysis was not performed.

Unfunded Mandates Reform Act

Title II of the Unfunded Mandates Reform Act of 1995 (UMRA), Public Law 104-4, establishes requirements for Federal agencies to assess the effects of their regulatory actions on State, local, and tribal governments and the private sector. Under section 202 of the UMRA, the Agencies generally must prepare a written statement, including a cost benefit analysis, for proposed and final rules with “Federal mandates” that may result in expenditures to State, local, or tribal governments, in the aggregate, or to the private sector, of $100 million or more in any one year. When such a statement is needed for a rule, section 205 of the UMRA generally requires the agencies to identify and consider a reasonable number of regulatory alternatives and adopt the least costly, more cost-effective, or least burdensome alternative that achieves the objectives of the rule. This rule contains no Federal mandates (under the regulatory provisions of title II of the UMRA) for State, local, and tribal governments or the private sector. Thus, the rule is not subject to the requirements of section 202 and 205 of the UMRA.

Environmental Impact Statement

This document has been reviewed in accordance with 7 CFR part 1940, subpart G, “Environmental Program.” The Agencies have determined that this final action does not constitute a major Federal action significantly affecting the quality of human environment, and in accordance with the National Environmental Policy Act of 1969, 42 U.S.C. 4321 et seq., an Environmental Impact Statement is not required.

Executive Order 13132, Federalism

The policies contained in this rule do not have any substantial direct effect on States, on the relationship between the national government and the States, or on the distribution of power and responsibilities among the various levels of government. Nor does this rule impose substantial direct compliance costs on State and local governments. Therefore, consultation with the States is not required.

Background

In November 2003, the Federal Register published a Final Rule that implemented changes to the governmentwide nonprocurment debarment and suspension common rule (NCR) and the associated rule on drug-free workplace requirements. The NCR set forth the common policies and procedures that Federal Executive branch agencies must use in taking suspension or debarment actions. It also established procedures for participants and Federal agencies in entering covered transactions. Following the procedures set forth in the NCR will help ensure that the agency action complies with due process standards and provides the public with uniform procedures.

List of Subjects in 7 CFR Part 1944

Administrative practice and procedure, Grant programs, Housing and community development, Loan Programs, Migrant labor, Nonprofit organizations, Reporting requirements, Rural Housing.

For the reasons set forth in the summary, chapter XVIII, title 7, Code of Federal Regulations is amended as follows:

PART 1944—HOUSING

1. The authority citation for part 3550 continues to read as follows:

Authority: 5 U.S.C. 301; 42 U.S.C. 1480.

Subpart B—Housing Application Packaging Grants

2. Section 1944.74 is revised to read as follows:

§ 1944.74 Debarment or Suspension.

Certified packagers whose actions or acts warrant they not be allowed to participate in the program are to be investigated in accordance with agency procedures (available in any Rural Development office).

Dated: January 18, 2005.
Russell T. Davis,
Administrator, Rural Housing Service.

[FR Doc. 05-2903 Filed 2-14-05; 8:45 am]

BILLING CODE 3410-XV-P